DEPARTMENT OF DEFENSE

Office of the Secretary

[Docket ID: DoD-2014-OS-0027]

Privacy Act of 1974; System of Records

AGENCY: Defense Contract Audit Agency, DoD.

ACTION: Notice to delete a System of Records.

SUMMARY: The Defense Contract Audit Agency is deleting a system of records notice in its existing inventory of record systems subject to the Privacy Act of 1974, as amended. The notice is entitled “RDCAA 152.2, Personnel Security Data Files.”

DATES: Comments will be accepted on or before April 4, 2014. This proposed action will be effective on the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Defense Contract Audit Agency Privacy Management Analyst at (703) 767-1022.

SUPPLEMENTARY INFORMATION: The Defense Contract Audit Agency systems of records notices subject to the Privacy Act of 1974 (5 U.S.C. 552a), as amended, have been published in the Federal Register and are available from the address in FOR FURTHER INFORMATION CONTACT or at http://dpclo.defense.gov/.

The Defense Contract Audit Agency proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Dated: February 28, 2014.
Aaron Siegel,
Alternate OSD Federal Register Liaison Officer, Department of Defense.

RDCAA 152.2

System name:

Personnel Security Data Files (May 18, 1999, 64 FR 26947).

Reason:

Records are covered by DoD System of Records Notice, DMDC 12 DoD, Joint Personnel Adjudication System (JPAS) (May 3, 2011, 76 FR 24863). Therefore, RDCAA 152.2, Personnel Security Data Files can be deleted.

[FR Doc. 2014-04820 Filed 3-4-14; 8:45 am]

BILLING CODE 5001-06-P